DEPARTMENT OF COMMERCE

National Oceanic and Atmospheric Administration

50 CFR Part 622

[Docket No. 150226189-5189-01]

RIN 0648-BE91

Fisheries of the Caribbean, Gulf of Mexico, and South Atlantic; Reef Fish Fishery of the Gulf of Mexico; Red Snapper Management Measures

AGENCY: National Marine Fisheries Service (NMFS), National Oceanic and Atmospheric Administration (NOAA), Commerce.

ACTION: Proposed rule; request for comments.

SUMMARY: NMFS proposes to implement management measures described in a framework action to the Fishery Management Plan for the Reef Fish Resources of the Gulf of Mexico (FMP) prepared by the Gulf of Mexico (Gulf) Fishery Management Council (Council) (2015 Gulf red snapper framework action). If implemented, this proposed rule would increase the commercial and recreational quotas for red snapper in the Gulf of Mexico reef fish fishery for the 2015, 2016, and 2017 fishing years Quotas for subsequent fishing years would remain at 2017 levels unless changed by future rulemaking. This proposed rule is intended to help achieve optimum yield (OY) for the Gulf red snapper resource without increasing the risk of red snapper experiencing overfishing.

DATES: Written comments must be received on or before April 16, 2015.

ADDRESSES: You may submit comments on the proposed rule, identified by “NOAA-NMFS-2015-0036” by either of the following methods:

• Electronic Submission: Submit all electronic public comments via the Federal e-Rulemaking Portal. Go to www.regulations.gov/#!docket Detail;D=NOAA-NMFS-2015-0036, click the “Comment Now!” icon, complete the required fields, and enter or attach your comments.

• Mail: Submit written comments to Cynthia Meyer, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the framework action, which includes an environmental assessment, Regulatory Flexibility Act (RFA) analysis and a regulatory impact review, may be obtained from the Southeast Regional Office Web site at http://sero.nmfs.noaa.gov/sustainable_fisheries/gulf_fisheries/reef_fish.

FOR FURTHER INFORMATION CONTACT: Cynthia Meyer, telephone 727-824-5305; email: Cynthia.Meyer@noaa.gov.

SUPPLEMENTARY INFORMATION: NMFS and the Council manage the Gulf reef fish fishery under the FMP. The Council prepared the FMP and NMFS implements the FMP through regulations at 50 CFR part 622 under the authority of the Magnuson-Stevens Fishery Conservation and Management Act (Magnuson-Stevens Act).

Background

All weights given in this rule are in round weight. The total quota for Gulf red snapper (combined commercial and recreational quotas) has increased annually from 5 million lb (2.268 million kg), in 2009, to 11 million lb (4.990 million kg), and since 2013, has been fixed at 11 million lb (4.990 million kg). In order to reduce the likelihood that the recreational sector will exceed its quota, the Council and NMFS implemented an annual catch target (ACT) set at 20 percent below the recreational quota through the 2014 framework amendment (80 FR 14328, March 19, 2015), which is used to set the recreational season length. The commercial sector is managed by an individual fishing quota (IFQ) program that was implemented in 2007, and effectively constrains commercial landings to the commercial quota.

Status of Stock

The Southeast Data, Assessment, and Review (SEDAR) benchmark assessment for Gulf red snapper, conducted in 2013 and 2014 (SEDAR 31), determined that the red snapper stock is still overfished, but is not undergoing overfishing, and that the acceptable biological catch (ABC) may be increased. The stock is still under a rebuilding plan through 2032.

The Council's Scientific and Statistical Committee (SSC) met in February 2015, to review the assessment results with updated provisional 2014 landings data and recommended a new ABC for the 2015, 2016, and 2017 fishing years. The SSC recommended an ABC of 14.30 million lb (6.49 million kg) for 2015, 13.96 million lb (6.33 million kg) for 2016, and 13.74 million lb (6.23 million kg) for 2017. The Council met in March 2015, and voted to adjust the commercial and recreational quotas to reflect these new ABCs through the 2015 Gulf red snapper framework action.

Management Measures Contained in This Proposed Rule

This rule would set the commercial and recreational quotas and the recreational ACTs for the 2015, 2016, and 2017 fishing years for red snapper based on the ABCs recommended by the SSC and on the current commercial and recreational allocations (51-percent commercial and 49-percent recreational). Quotas for subsequent fishing years would remain at 2017 levels unless changed by future rulemaking. For 2015, the commercial quota would be set at 7.293 million lb (3.308 million kg) and the recreational quota would be set at 7.007 million lb (3.178 million kg); for 2016, the commercial quota would be set at 7.120 million lb (3.230 million kg) and the recreational quota would be set at 6.840 million lb (3.103 million kg); and for 2017 and subsequent fishing years, the commercial quota would be set at 7.007 million lb (3.178 million kg) and the recreational quota would be set at 6.733 million lb (3.054 million kg.

Through the 2014 framework amendment, the Council and NMFS implemented a recreational ACT set at 20 percent below the recreational quota. Based on the revised recreational quotas contained in this rule, the revised recreational ACTs for the 2015, 2016, and 2017 would be as follows: For 2015, the recreational ACT would be 5.606 million lb (2.543 million kg); for 2016, the recreational ACT would be 5.472 million lb (2.482 million kg); and for 2017, the recreational ACT would be 5.384 million lb (2.442 million kg). Recreational ACTs for subsequent fishing years would remain at 2017 levels unless changed by future rulemaking.

The Gulf Headboat Collaborative Fishing Permit (Collaborative) program, implemented through an exempted fishing permit, will continue through 2015 (as a continuation of the 2-year program begun in 2014). The Collaborative program allocates harvest rights to a specified portion of the red snapper recreational sector (2.4396 percent of the recreational quota), and this quantity is subsequently allocated to individual vessels. This program allows anglers to harvest red snapper when fishing on Collaborative vessels throughout the fishing year (until that portion of the quota is met). The proposed increase in the red snapper recreational quota in 2015 would increase the amount of quota allocated to the 19 vessels in this program.

The red snapper management measures contained in this proposed rule would achieve the goal set by National Standard 1 of the Magnuson-Stevens Act, which states that conservation and management measures shall prevent overfishing while achieving, on a continuing basis, the OY for the fishery.

Red Snapper Recreational Fishing Season

Under 50 CFR 622.34(b), the red snapper recreational fishing season opens each year on June 1. Prior to June 1 each year, NMFS projects the closing date based on the previous year's data, and notifies the public of the closing date for the upcoming season. The red snapper recreational season closure date will be based on when the recreational ACT is projected to be met (as required by the 2014 Gulf red snapper framework amendment). After the final 2014 recreational landings data are available and before the season opens on June 1, 2015, NMFS will announce the 2015 season closure date, which may be in the final rule associated with this action.

Amendment 40 to the FMP

The Council developed Amendment 40 to the FMP and NMFS published a notice of availability (NOA) on January 16, 2015 (80 FR 2379) and a proposed rule on January 23, 2015 (80 FR 3541). The public comment period on the proposed rule ended on March 9, 2015, and the NOA comment period ended on March 17, 2015. If approved by the Secretary of Commerce, Amendment 40 and the implementing rule would establish a Federal charter vessel/headboat (for-hire) component and a private angling component within the recreational sector, allocate the red snapper recreational quota and annual catch target (ACT) between the components, and establish separate seasonal closures for the two components. Additionally, Amendment 40 and the rule would establish commercial and recreational ACLs for red snapper, which would be equal to the commercial and recreational quotas. Previously, rather than establishing ACLs for red snapper management, the Council chose to refer to the sector quotas as the functional equivalent of sector ACLs, and the sum of all quotas as the stock ACLs. If Amendment 40 is approved and a final rule is implemented, the final rule implementing this framework action would include the ACLs, component quotas, and ACTs from Amendment 40 in the regulatory text, but they would be adjusted to reflect the increases proposed in this rule.

Additional Changes to Codified Text

This proposed rule would make two administrative changes to the Gulf IFQ program regulations. In §§ 622.21 and 622.22, the Web site for the Gulf IFQ program would change from “ifq.sero.fisheries.noaa.gov” to “https://portal.southeast.fisheries.noaa.gov/cs/main.html” to align with the renaming of NMFS Web sites for all of the regions in the U.S. The second change would revise the minimum share transfer percentage for the Gulf red snapper IFQ program from “0.0001 percent” to “0.000001 percent” to align with the Gulf grouper/tilefish program minimum share transfer percentage and allow for smaller percentages of red snapper IFQ shares to be transferred. When the red snapper IFQ program was implemented in 2007, NMFS determined, based on the share cap and red snapper commercial quota, that 0.0001 percent was the appropriate minimum share transfer percentage. Because the red snapper commercial quota has been increasing, NMFS has now determined that the minimum share transfer percentage should be 0.000001 percent. This will give shareholders greater flexibility by allowing transfers of smaller increments of shares. In addition, modifying the minimum share transfer percentage for red snapper would help avoid confusion among shareholders who trade both red snapper and grouper/tilefish shares because both programs would have the same minimum share transfer percentage.

Classification

Pursuant to section 304(b)(1)(A) of the Magnuson-Stevens Act, the NMFS Assistant Administrator has determined that this proposed rule is consistent with the FMP, other provisions of the Magnuson-Stevens Act, and other applicable law, subject to further consideration after public comment.

This proposed rule has been determined to be not significant for purposes of Executive Order 12866.

The Chief Counsel for Regulation of the Department of Commerce certified to the Chief Counsel for Advocacy of the Small Business Administration (SBA) that this proposed rule, if implemented, would not have a significant economic impact on a substantial number of small entities. The factual basis for this determination is as follows:

The purpose of this proposed rule is to set quotas for the commercial and recreational harvest of red snapper in the Gulf that are consistent with the red snapper rebuilding plan in order to achieve OY, and to make two administrative changes to the IFQ programs. The Magnuson-Stevens Act provides the statutory basis for this proposed rule.

This rule, if implemented, would set the red snapper quotas for the commercial and recreational sectors for the 2015 fishing year, 2016 fishing year, and 2017 fishing year and subsequent fishing years. As a result, this rule would be expected to directly affect commercial vessels that harvest red snapper. Over the period 2009-2013, an average of 353 vessels per year recorded commercial red snapper harvests, based on mandatory logbook data. The maximum number of vessels with recorded commercial red snapper harvests during this period was 375 in 2010. However, in 2010, 384 vessels were identified in the red snapper IFQ on-line account program, which tracks red snapper activity. This system, however, is not the official record for trip harvests, nor does it capture all landings, or associated revenues, from all species harvested on all trips by vessels that harvest red snapper. Therefore, data from both sources are used for this assessment to estimate the number of potentially affected entities. As a result, this rule would be expected to apply to 353-384 commercial fishing vessels. The average annual gross revenue from all species harvested on all trips by the vessels identified with recorded red snapper harvests in logbook data over the period 2009-2013 (353 vessels) was approximately $110,000 (2013 dollars).

With respect to the proposed changes in the red snapper recreational quotas, only recreational anglers are allowed to recreationally harvest red snapper in Federal waters in the Gulf and would be directly affected in changes in the allowable harvest. However, recreational anglers are not small entities under the RFA. Although for-hire businesses (charter vessels and headboats) operate in the recreational sector, these businesses only sell fishing services to recreational anglers and do not, with the exception discussed in the next paragraph, have harvest rights to the red snapper recreational quota. For-hire vessels provide a platform for the opportunity to fish and not a guarantee to catch or harvest any species, though expectations of successful fishing, however defined, likely factor into the decision by anglers to purchase these services. Changing the red snapper recreational quota only defines how much red snapper can be harvested and the quota is a factor in the determination of the length of the red snapper recreational fishing season. Changing the quota does not explicitly prevent the continued offer or sale of for-hire fishing services. In the event of a closed season (zero bag limit), precipitated by a quota reduction, catch and release fishing for a target species can continue, as can fishing for other species. In the event of a quota increase and associated increase in the open season, the basic service offered remains the same, though the list of species that may be retained is expanded. Because the proposed change in the red snapper quota would not directly alter the basic service sold by for-hire vessels, in general, this proposed rule would not directly apply to or regulate their operations. Any change in vessel business would be a result of changes in angler demand for these fishing services that occurs as a result of the behavioral decision by anglers, i.e., to fish or not. This behavioral decision would be a consequence of how anglers determine the change in allowable harvest will affect them. Therefore, any effects on the associated for-hire vessels would be one step removed from the anglers' decision and an indirect effect of the proposed rule. Because the effects on for-hire vessels would be indirect, they fall outside the scope of the RFA.

The exception to this determination is, however, for the 19 headboats participating in the Collaborative program in 2015 (as a continuation of the 2-year program begun in 2014). The Collaborative program allocates harvest rights to a specified portion (2.4396 percent) of the red snapper recreational allowable catch to the Collaborative, and this quantity is subsequently allocated to individual vessels. This program allows anglers to harvest red snapper when fishing on Collaborative vessels outside the season available to non-participating vessels if the total allowable harvest for the recreational sector has not been taken. Although these fish can still only be harvested by recreational anglers, and not vessel captains or crew, the allocation of harvest rights to these vessels and the increased flexibility on when red snapper may be retained enables the vessels in this program to offer an enhanced product relative to other for-hire vessels. The proposed increase in the red snapper recreational quota in 2015 would increase the amount of quota allocated to the vessels in this program. Average revenue information for these 19 vessels is unknown. However, the average headboat operating in the Gulf is estimated to receive approximately $245,000 (2013 dollars) in annual gross revenue.

NMFS has not identified any other small entities that would be expected to be directly affected by this proposed rule.

The Small Business Administration has established size criteria for all major industry sectors in the U.S., including fish harvesters. A business involved in fish harvesting is classified as a small business if it is independently owned and operated, is not dominant in its field of operation (including its affiliates), and has combined annual receipts not in excess of $20.5 million (NAICS code 114111, finfish fishing) for all its affiliated operations worldwide. The revenue threshold for a business involved in the for-hire fishing industry is $7.5 million (NAICS code 487210, fishing boat charter operation). All commercial and headboat fishing vessels expected to be directly affected by this proposed rule are determined to be small business entities.

This proposed rule would increase the red snapper commercial quota in 2015, 2016, and 2017 and subsequent fishing years, by 1.683 million lb (0.763 million kg) gutted weight, 1.510 million lb (0.685 million kg), and 1.397 million lb (0.634 million kg), respectively, relative to the status quo. These increases would be expected to result in an increase in total gross revenue (ex-vessel revenue minus the 3-percent cost recovery fee, all vessels) for commercial vessels that harvest red snapper of approximately $6.974 million (2013 dollars), $6.268 million, and $5.811 million, each year, respectively. Across all 3 years, the resultant total increase in gross revenue would be approximately $19.053 million (2013 dollars). The average increase per vessel (353-384 vessels) per year would range (low to high average) from approximately $15,133-$16,462 per vessel ($5.81 million/384 vessels = $15,133 per vessel; $5.81/353 vessels = $16,462 per vessel) in 2017 to approximately $18,161-$19,756 per vessel ($6.97 million/384 vessels = $18,161 per vessel; $6.97/353 vessels = $19,756 per vessel) in 2015. As a result, the expected economic effect of the proposed rule would be increased revenue to the affected small business entities.

This proposed rule would increase the red snapper recreational quota in 2015, 2016, and 2017 and subsequent fishing years by 1.617 million lb (0.733 million kg), 1.450 million lb (0.658 million kg), and 1.343 million lb (0.609 million kg), respectively, relative to the status quo. As discussed above, the proposed quota increase in 2015 would be expected to directly affect 19 headboats that participate in the Collaborative program. These vessels would not be expected to be directly affected by the proposed quota increases in 2016 and 2017 and subsequent fishing years because the program will only continue through 2015. Quantitative estimates of the expected economic effects of the proposed quota increase in 2015 on these 19 entities are not available. Although the amount of increased quota that would be allocated to this program can be calculated, how this increase would be distributed amongst the vessels in the program cannot be determined because the distribution is subject to decision within the program and not dependent on historical activity or distribution of allowable harvest to date in 2015. Additionally, it is not possible with available data to produce a meaningful estimate of the portion of the increased quota that would be harvested by anglers on new trips (resulting in an increase in the revenue to respective vessels) or would be harvested on trips that would occur in the absence of a change in available harvest (resulting in no change in revenue), or to determine whether the change in available harvest would affect the price per trip that would be charged. Nevertheless, the effects of the increase in quota on these vessels would be expected to be either neutral at worst (i.e., no economic effect) or, more likely, positive, resulting in an increase in vessel revenue and associated profits.

The proposed changes to the IFQ programs, discussed in the preamble of this proposed rule, are administrative changes and would not be expected to have any direct adverse economic effect on any small entities.

Based on the discussion above, NMFS determines that this proposed rule, if implemented, would not have a significant adverse economic effect on a substantial number of small entities. As a result, an initial regulatory flexibility analysis is not required and none has been prepared.

List of Subjects in 50 CFR Part 622

Commercial, Fisheries, Fishing, Gulf of Mexico, Quotas, Recreational, Red Snapper.

Dated: March 27, 2015.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.21, the third sentence in paragraph (b)(1), the second sentence in paragraph (b)(2), the last sentence in paragraph (b)(3)(i), the first sentence in paragraph (b)(3)(iii), the second sentence in paragraph (b)(3)(iv), the only sentence in paragraph (b)(5)(i)(B), the third sentence in paragraph (b)(5)(v), the second and third sentences in paragraph (b)(6)(ii), the second sentence in paragraph (b)(6)(iv), and the first sentence in paragraph (b)(10) are revised to read as follows:

§ 622.21 Individual fishing quota (IFQ) program for Gulf red snapper.

* * * * *

(b) * * *

(1) * * * An owner of a vessel with a commercial vessel permit for Gulf reef fish, who has established an IFQ account for Gulf red snapper as specified in paragraph (a)(3)(i) of this section, online via the NMFS IFQ Web site https://portal.southeast.fisheries.noaa.gov/cs/main.html, may establish a vessel account through that IFQ account for that permitted vessel. * * *

(2) * * * A dealer with a Gulf and South Atlantic dealer permit can download a Gulf IFQ dealer endorsement from the NMFS IFQ Web site. * * *

(3) * * *

(i) * * * All IFQ landings and their actual ex-vessel prices must be reported via the IFQ Web site.

* * * * *

(iii) The dealer must complete a landing transaction report for each landing of Gulf red snapper via the IFQ Web site on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. * * *

(iv) * * * This form is available via the IFQ Web site. * * *

* * * * *

(5) * * *

(i) * * *

(B) * * * Authorized methods for contacting NMFS and submitting the report include calling IFQ Customer Service at 1-866-425-7627, completing and submitting to NMFS a landing notification provided through the VMS unit, or providing the required information to NMFS through the web-based form available on the IFQ Web site.

* * * * *

(v) * * * Proposed landing locations may be submitted online via the IFQ Web site, or by calling IFQ Customer Service at 1-866-425-7627, at any time; however, new landing locations will be approved only at the end of each calendar-year quarter. * * *

* * * * *

(6) * * *

(ii) * * * An IFQ shareholder must initiate a share transfer request by logging onto the IFQ Web site. Following the instructions provided on the IFQ Web site, the shareholder must enter pertinent information regarding the transfer request including, but not limited to, amount of shares to be transferred, which must be a minimum of 0.000001 percent; name of the eligible transferee; and the value of the transferred shares. * * *

* * * * *

(iv) * * * An IFQ account holder must initiate an allocation transfer by logging onto the IFQ Web site, entering the required information, including but not limited to, name of an eligible transferee and amount of IFQ allocation to be transferred and price, and submitting the transfer electronically. * * *

* * * * *

(10) * * * On or about January 1 each year, IFQ shareholders will be notified, via the IFQ Web site, of their IFQ share and allocation for the upcoming fishing year. * * *

* * * * *

3. In § 622.22, the third sentence in paragraph (b)(1), the second sentence in paragraph (b)(2), the last sentence in paragraph (b)(3)(i), the first sentence in paragraph (b)(3)(iii), the second sentence in paragraph (b)(3)(iv), the only sentence in paragraph (b)(5)(i)(B), the third sentence in paragraph (b)(5)(v), the second sentence in paragraph (b)(6)(ii), the second sentence in paragraph (b)(6)(iv), and the first sentence in paragraph (b)(10) are revised to read as follows:

§ 622.22 Individual fishing quota (IFQ) program for Gulf groupers and tilefishes.

* * * * *

(b) * * *

(1) * * * An owner of a vessel with a commercial vessel permit for Gulf reef fish, who has established an IFQ account for the applicable species, as specified in paragraph (a)(3)(i) of this section, online via the NMFS IFQ Web site https://portal.southeast.fisheries.noaa.gov/cs/main.html, may establish a vessel account through that IFQ account for that permitted vessel. * * *

(2) * * * A dealer with a Gulf and South Atlantic dealer permit can download a Gulf IFQ dealer endorsement from the NMFS IFQ Web site. * * *

(3) * * *

(i) * * * All IFQ landings and their actual ex-vessel prices must be reported via the IFQ Web site.

* * * * *

(iii) The dealer must complete a landing transaction report for each landing of Gulf groupers or tilefishes via the IFQ Web site on the day of offload, except if the fish are being trailered for transport to a dealer as specified in paragraph (b)(5)(iv) of this section (in which case the landing transaction report may be completed prior to the day of offload), and within 96 hours from the time of landing reported on the most recent landing notification, in accordance with the reporting form(s) and instructions provided on the Web site. * * *

(iv) * * * This form is available via the IFQ Web site. * * *

* * * * *

(5) * * *

(i) * * *

(B) * * * Authorized methods for contacting NMFS and submitting the report include calling IFQ Customer Service at 1-866-425-7627, completing and submitting to NMFS a landing notification provided through the VMS unit, or providing the required information to NMFS through the web-based form available on the IFQ Web site.

* * * * *

(v) * * * Proposed landing locations may be submitted online via the IFQ Web site, or by calling IFQ Customer Service at 1-866-425-7627, at any time; however, new landing locations will be approved only at the end of each calendar-year quarter. * * *

* * * * *

(6) * * *

(ii) * * * An IFQ shareholder must initiate a share transfer request by logging onto the IFQ Web site. * * *

* * * * *

(iv) * * * An IFQ account holder must initiate an allocation transfer by logging onto the IFQ Web site, entering the required information, including but not limited to, the name of an eligible transferee and amount of IFQ allocation to be transferred and price, and submitting the transfer electronically. * * *

* * * * *

(10) * * * On or about January 1 each year, IFQ shareholders will be notified, via the IFQ Web site, of their IFQ shares and allocations, for each of the five share categories, for the upcoming fishing year. * * *

* * * * *

4. In § 622.39, paragraphs (a)(1)(i) and (a)(2)(i) are revised to read as follows:

§ 622.39 Quotas.

* * * * *

(a) * * *

(1) * * *

(i) Commercial quota for red snapper.

(A) For fishing year 2015—7.293 million lb (3.308 million kg), round weight.

(B) For fishing year 2016—7.120 million lb (3.230 million kg), round weight.

(C) For fishing year 2017 and subsequent fishing years—7.007 million lb (3.178 million kg), round weight.

* * * * *

(2) * * *

(i) Recreational quota for red snapper.

(A) Total recreational quota (Federal charter vessel/headboat and private angling component quotas combined).

(1) For fishing year 2015—7.007 million lb (3.178 million kg), round weight.

(2) For fishing year 2016—6.840 million lb (3.103 million kg), round weight.

(3) For fishing year 2017 and subsequent fishing years—6.733 million lb (3.054 million kg), round weight.

(B) Federal charter vessel/headboat component quota. The Federal charter vessel/headboat component quota applies to vessels that have been issued a valid Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—2.964 million lb (1.344 million kg), round weight.

(2) For fishing year 2016—2.893 million lb (1.312 million kg), round weight.

(3) For fishing year 2017—2.848 million lb (1.292 million kg), round weight.

(C) Private angling component quota. The private angling component quota applies to vessels that fish under the bag limit and have not been issued a Federal charter vessel/headboat permit for Gulf reef fish any time during the fishing year. This component quota is effective for only the 2015, 2016, and 2017 fishing years. For the 2018 and subsequent fishing years, the applicable total recreational quota specified in § 622.39(a)(2)(i)(A) will apply to the recreational sector.

(1) For fishing year 2015—4.043 million lb (1.834 million kg), round weight.

(2) For fishing year 2016—3.947 million lb (1.790 million kg), round weight.

(3) For fishing year 2017—3.885 million lb (1.762 million kg), round weight.

* * * * *

5. In § 622.41, paragraph (q), as added at 80 FR 14331 (March 19, 2015), effective April 18, 2015, is revised to read as follows:

§ 622.41 Annual catch limits (ACLs), annual catch targets (ACTs), and accountability measures (AMs).

* * * * *

(q) Red snapper—(1) Commercial sector. The IFQ program for red snapper in the Gulf of Mexico serves as the accountability measure for commercial red snapper. The commercial ACL for red snapper is equal to the applicable commercial quota specified in § 622.39(a)(1)(i).

(2) Recreational sector. (i) The AA will determine the length of the red snapper recreational fishing season based on when recreational landings are projected to reach the applicable recreational ACT specified in paragraph (q)(2)(iii) of this section, and announce the closure date in the Federal Register. This will serve as an in-season accountability measure. On and after the effective date of the recreational closure notification, the bag and possession limit for red snapper is zero. The recreational ACL is equal to the applicable total recreational quota specified in § 622.39(a)(2)(i).

(ii) In addition to the measures specified in paragraph (q)(2)(i) of this section, if red snapper recreational landings, as estimated by the SRD, exceed the applicable recreational ACL (quota) specified in § 622.39(a)(2)(i), and red snapper are overfished, based on the most recent Status of U.S. Fisheries Report to Congress, the AA will file a notification with the Office of the Federal Register to reduce the recreational ACL (quota) by the amount of the quota overage in the prior fishing year, and reduce the applicable recreational ACT specified in paragraph (q)(2)(iii) of this section (based on the buffer between the ACT and the quota specified in the FMP), unless the best scientific information available determines that a greater, lesser, or no overage adjustment is necessary.

(iii) Recreational ACT for red snapper.

(A) Total recreational ACT (Federal charter vessel/headboat and private angling component ACTs combined).

(1) For fishing year 2015—5.605 million lb (2.542 million kg), round weight.

(2) For fishing year 2016—5.473 million lb (2.483 million kg), round weight.

(3) For fishing year 2017 and subsequent fishing years—5.386 million lb (2.443 million kg), round weight.

(B) Federal charter vessel/headboat component ACT. The Federal charter vessel/headboat component ACT applies to vessels that have been issued a valid Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—2.371 million lb (1.075 million kg), round weight.

(2) For fishing year 2016—2.315 million lb (1.050 million kg), round weight.

(3) For fishing year 2017—2.278 million lb (1.033 million kg), round weight.

(C) Private angling component ACT. The private angling component ACT applies to vessels that fish under the bag limit and have not been issued a Federal charter vessel/headboat permit for Gulf reef fish any time during the fishing year. This component ACT is effective for only the 2015, 2016, and 2017 fishing years. For the 2018 and subsequent fishing years, the applicable total recreational quota specified in § 622.39(a)(2)(i)(A) will apply to the recreational sector.

(1) For fishing year 2015—3.234 million lb (1.467 million kg), round weight.

(2) For fishing year 2016—3.158 million lb (1.432 million kg), round weight.

(3) For fishing year 2017—3.108 million lb (1.410 million kg), round weight.

[FR Doc. 2015-07459 Filed 3-31-15; 8:45 am]

BILLING CODE CODE 3510-22-P